DEPARTMENT OF TRANSPORTATION

Office of the Secretary

Aviation Proceedings, Agreements Filed During Week Ending July 13, 2001

The following Agreements were filed with the Department of Transportation under provisions of 49 U.S.C. 412 and 414. Answers may be filed within 21 days after the filing of the applications.

Docket Number: OST-2001-10092

Date Filed: July 10, 2001

Parties: Members of the International Air Transport Association

Subject:

PTC2 ME 0092 dated 29 June 2001

TC2 Within Middle East Expedited Resolutions 002d, 070ba

PTC2 ME 0093 dated 29 June 2001

Intended effective date: 15 August 2001

Docket Number: OST-2001-10140

Date Filed: July 12, 2001

Parties: Members of the International Air Transport Association

Subject:

CAC/29/Meet/004/01 dated 23 May 2001

Expedited Resolution 801r

Intended effective date: Expedited 1 July 2001

Docket Number: OST-2001-10141

Date Filed: July 12, 2001

Parties: Members of the International Air Transport Association

Subject:

CAC/29/Meet/006/01 dated 21 June 2001

Finally Adopted Resolutions r1-r14

Minutes—CAC/29/Meet/005/01 dated 18 June 2001

Intended effective date: 1 October 2001

Docket Number: OST-2001-10142

Date Filed: July 12, 2001

Parties: Members of the International Air Transport Association

Subject:

CBPP/8 Finally Adopted Resolution 606

Bar Coded Label [Minutes, circulated by CBPP/8/Meeting/003/00 dated 5 March 2001, were submitted this date with CBPP/8 Finally Adopted Resolution 600a. Both 600a and 606 were adopted at the Cargo Business Process Panel meeting held in Montreal on October 16-18, 2000.]

Intended effective date: 1 October 2001

Docket Number: OST-2001-10143

Date Filed: July 12, 2001

Parties: Members of the International Air Transport Association

Subject:

CBPP/8 Finally Adopted Resolution 600a

Air Waybill Amendment

Minutes—CBPP/8/Meeting/003/00 dated 5 March 2001

Intended effective date: 1 October 2001

Dorothy Y. Beard,
Federal Register Liaison.

[FR Doc. 01-18850 Filed 7-26-01; 8:45 am]

BILLING CODE 4910-62-P